ENVIRONMENTAL PROTECTION AGENCY

[EPA-HQ-OAR-2010-0711; FRL-9198-5]

Proposed Approval of the Central Characterization Project's Transuranic Waste Characterization Program at the Hanford Site

AGENCY: Environmental Protection Agency.

ACTION: Notice of availability; opening of public comment period.

SUMMARY: The Environmental Protection Agency (EPA or the Agency) is announcing the availability of, and soliciting public comments for 45 days on, the proposed approval of the radioactive contact-handled (CH) transuranic (TRU) waste characterization program implemented by the Central Characterization Project (CCP) at the Hanford Site in Richland, Washington. This waste is intended for disposal at the Waste Isolation Pilot Plant (WIPP) in New Mexico.

In accordance with the WIPP Compliance Criteria, EPA evaluated the characterization of TRU debris waste from Hanford-CCP during an inspection conducted on April 27-29, 2010. Using the systems and processes developed as part of the U.S. Department of Energy's (DOE's) Carlsbad Field Office (CBFO) program, EPA verified whether DOE could adequately characterize CH TRU debris waste, consistent with the Compliance Criteria. The results of EPA's evaluation of Hanford-CCP's waste characterization program and its proposed approval are described in the Agency's inspection report, which is available for review in the public dockets listed in ADDRESSES. We will consider public comments received on or before the due date mentioned in DATES.

This notice summarizes the waste characterization processes evaluated by EPA and EPA's proposed approval. As required by the 40 CFR 194.8, at the end of a 45-day comment period EPA will evaluate public comments received, and if appropriate, finalize the reports responding to the relevant public comments and issue a final report and approval letter to DOE.

DATES: Comments must be received on or before October 25, 2010.

ADDRESSES: Submit your comments, identified by Docket ID No. EPA-HQ-OAR-2010-0711, by one of the following methods:

• http://www.regulations.gov: Follow the on-line instructions for submitting comments.

• E-mail: to a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2010-0711. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically at http://www.regulations.gov. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Waste Management and Regulations, Mail Code 6608J, U.S. Environmental Protection Agency, 1200 Pennsylvania Avenue, Washington, DC 20460; telephone number: 202-343-9601; fax number: 202-343-2305; e-mail address: joglekar.rajani@epa.gov or feltcorn.ed@epa.gov.

SUPPLEMENTARY INFORMATION:

I. General Information

A. What should I consider as I prepare my comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. No. 102-579), as amended (Pub. L. No. 104-201), TRU waste consists of materials with radionuclides that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in specially shielded containers. Surface radiation levels of unshielded containers of remote-handled transuranic waste exceed 200 millirems per hour. RH waste primarily emits gamma radiation, which is very penetrating and requires concrete, lead, or steel to block it.

On May 13, 1998, EPA issued a final certification of compliance for the WIPP facility. The final rule was published in the Federal Register on May 18, 1998 (63 FR 27354). EPA officially recertified WIPP on March 29, 2006 (71 FR 18015). Both the certification and recertification determined that WIPP complies with the Agency's radioactive waste disposal regulations at 40 CFR part 191, subparts B and C, and is therefore safe to contain TRU waste.

The final WIPP certification decision includes conditions that (1) prohibit shipment of TRU waste for disposal at WIPP from any site other than the Los Alamos National Laboratories (LANL) until the EPA determines that the site has established and executed a quality assurance program, in accordance with 194.22(a)(2)(i), 194.24(c)(3), and 194.24(c)(5) for waste characterization activities and assumptions (Condition 2 of appendix A to 40 CFR part 194); and (2) (with the exception of specific, limited waste streams and equipment at LANL) prohibit shipment of TRU waste for disposal at WIPP (from LANL or any other site) until EPA has approved the procedures developed to comply with the waste characterization requirements of 194.22(c)(4) (Condition 3 of appendix A to 40 CFR part 194). The EPA's approval process for waste generator sites is described in 194.8 (revised July 2004).

Condition 3 of the WIPP Certification Decision requires EPA to conduct independent inspections at DOE's waste generator/storage sites of their TRU waste characterization capabilities before approving their program and the waste for disposal at the WIPP. EPA's inspection and approval process gives EPA (a) Discretion in establishing technical priorities, (b) the ability to accommodate variation in the site's waste characterization capabilities, and (c) flexibility in scheduling site waste characterization inspections.

As described in Section 194.8(b), EPA's baseline inspections evaluate each waste characterization process component (equipment, procedures, and personnel training/experience) for its adequacy and appropriateness in characterizing TRU waste destined for disposal at WIPP. During an inspection, the site demonstrates its capabilities to characterize TRU waste(s) and its ability to comply with the regulatory limits and tracking requirements under 194.24. A baseline inspection may describe any limitations on approved waste streams or waste characterization processes [§ 194.8(b)(2)(iii)]. In addition, a baseline inspection approval must specify what subsequent waste characterization program changes or expansion should be reported to EPA [§ 194.8(b)(4)]. The Agency is required to assign Tier 1 (T1) and Tier 2 (T2) designations to the reportable changes depending on their potential impact on data quality. A T1 designation requires that the site notify EPA of proposed changes to the approved components of an individual waste characterization process (such as radioassay equipment or personnel), and that EPA approve the change before it can be implemented. A waste characterization element with a T2 designation allows the site to implement changes to the approved components of individual waste characterization processes (such as visual examination procedures) but requires EPA notification. The Agency may choose to inspect the site to evaluate technical adequacy before approval. EPA inspections conducted to evaluate T1 or T2 changes are follow-up inspections under the authority of 194.24(h). In addition to the follow-up inspections, if warranted, EPA may opt to conduct continued compliance inspections at TRU waste sites with a baseline approval under the authority of 194.24(h).

The site inspection and approval process outlined in 194.8 requires EPA to issue a Federal Register notice proposing the baseline compliance decision, docket the inspection report for public review, and seek public comment on the proposed decision for a period of 45 days. The report must describe the waste characterization processes EPA inspected at the site, as well as their compliance with 194.24 requirements.

III. Proposed Baseline Compliance Decision

EPA conducted Baseline Inspection No. EPA-Hanford-CCP-CH-04.10-8 of the waste characterization program for CH TRU waste at the Hanford site on April 27-29, 2010. In accordance with the provisions of 40 CFR 194.8(b), EPA evaluated the site's program to characterize wastes proposed for disposal at the Waste Isolation Pilot Plant (WIPP). EPA is seeking public comment on the proposed approval which, when finalized, will allow the Hanford-CCP to characterize and dispose of CH TRU debris waste at the WIPP.

The EPA inspection team identified five concerns, all of which required a response. EPA Inspection Issue Tracking Forms (see Attachments C.1 through C.4 and C.6 of the accompanying inspection report) document these concerns. The EPA inspection team also identified one finding (Hanford-CCP-CH-VE-10-005F, Final, see Attachment C.5 of the accompanying inspection report). Personnel from Hanford-CCP and Carlsbad Field Office (CBFO) provided information to resolve these concerns to EPA after the inspection. The information provided to EPA adequately addressed the finding and concerns. EPA considers the one finding and the five concerns related to Hanford-CCP to be resolved, and there are no open issues resulting from this inspection.

The EPA inspection team determined that the Hanford-CCP waste characterization program for retrievably-stored CH TRU debris waste was technically adequate. EPA, therefore, is proposing to approve the Hanford-CCP CH TRU waste characterization program in the configuration observed during this inspection and described in this report and the attached checklists (Attachments A.1 through A.5). This approval includes the following:

(1) The acceptable knowledge (AK) process for CH retrievably-stored TRU debris wastes.

(2) The Canberra Gamma Energy Analysis (GEA) systems (units GEA-A and GEA-B) for assaying CH TRU wastes.

(3) The nondestructive examination (NDE) process of real-time radiography (RTR) for CH TRU debris wastes.

(4) The NDE process of visual examination (VE) for CH TRU debris waste.

(5) The WIPP Waste Data System (WDS) process for tracking waste contents of CH TRU wastes.

As part of Item #3 above, when estimating observable, free liquid in a CH container, if a mathematical equation is used to calculate the quantities of liquid, the mathematical equation used and resulting calculation must be recorded. Auditable records thus are available to verify estimated quantities of liquid in a container. Hanford-CCP must report any Tier 1 (T1) or Tier 2 (T2) changes to the Hanford-CCP waste characterization activities from the date of the baseline inspection according to Table 1, below. Reference to the specific section of this report where each T1 or T2 change is discussed is included in parentheses following the change. Table 1 in the accompanying inspection report closely follows the format used in previous CH baseline approval reports. Footnote b in Tables 1 and 10 specifies that “substantive changes” are changes with the potential to impact the site's waste characterization activities under 40 CFR 194.24 or the documentation thereof, excluding changes that are solely related to environmental safety and health (ES&H), nuclear safety, or the Resource Conservation and Recovery Act (RCRA), or that are editorial in nature.

Table 1—Tiering of CH TRU WC Processes Implemented by HANFORD-CCP, Based on April 27-29, 2010 Baseline Inspection
Process elements | Hanford-CCP T1 changes needing EPA review and approval | Hanford-CCP T2 changes ᵃ
Acceptable Knowledge (AK) | Implementation of load management (AK 13) | Notification to EPA upon completion of new versions or updates/substantive changes ᵇ of the following:
| Implementation of AK for wastes other than retrievably-stored debris (i.e., retrievably-stored soil/gravel and/or solids) (AK 1) | —Modification of CCP-TP-005, Revision 18 (AK 4); —Availability of modifications to the AKSR (AK 5); —Availability of all final WSPF with related attachments (AK 9); —Availability of all AK Accuracy Reports (AK 12); —Availability of successful training records (AK 10); —Availability of the AK-NDA memorandum (AK 14).
Non Destructive Assay (NDA) | New equipment or physical modifications to approved equipment ᶜ (NDA 1) | Notification to EPA upon completion of changes to software for approved equipment, operating range(s), and site procedures that require CBFO approval (NDA 2).
| Extension or changes to approved calibration range for approved equipment (NDA 2)
Real-Time Radiography (RTR) | Implementation of a different type of RTR equipment (RTR 2) | Notification to EPA upon the following: —Modification ᶜ to approved equipment, RTR units A and B (RTR 2); —Completion of changes to site RTR procedures requiring CBFO approvals (RTR 2); —Addition of new SCG to the RTR processes that are subject to this approval (RTR 2).
Visual Examination (VE) | Performance of VE by any method other than using two trained operators to perform actual VE at the time of packaging (VE 1) | Notification to EPA upon the following: —Completion of changes to site VE procedure(s) requiring CBFO approvals (VE 2); —Addition of new SCG to the VE processes that are subject to this approval (VE 2).
Waste Data System (WDS) | There are no T1 changes at this time | Notification to EPA upon the following: —Completion of changes to WDS procedure(s) requiring CBFO approvals (WDS 2); —Changes to the Excel spreadsheet titled WDS Master Template.xls, Revision 2, Addendum #2, SCO #1065 (WDS 2).
ᵃ Upon receiving EPA approval, Hanford-CCP will report all T2 changes to EPA at the end of each fiscal quarter.
ᵇ “Substantive changes” are changes with the potential to impact the site's waste characterization activities or documentation thereof, excluding changes that are solely related to ES&H, nuclear safety, or RCRA, or that are editorial in nature.
ᶜ Modifications to approved equipment include all changes with the potential to affect NDA data relative to waste isolation and exclude minor changes, such as the addition of safety-related equipment.

IV. Availability of the Baseline Inspection Report for Public Comment

EPA has placed the report discussing the results of the Agency's inspection of Hanford-CCP in the public docket as described in ADDRESSES. In accordance with 40 CFR 194.8, EPA is providing the public 45 days to comment on these documents. The Agency requests comments on the proposed approval decision, as described in the inspection report. EPA will accept public comment on this notice and supplemental information as described in Section 1.B. above. EPA will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at the three EPA WIPP informational docket locations in Albuquerque, Carlsbad, and Santa Fe, New Mexico. The dockets in New Mexico contain only major items from the official Air Docket in Washington, DC, plus those documents added to the official Air Docket since the October 1992 enactment of the WIPP LWA.

Dated: September 1, 2010.
Michael P. Flynn,
Director, Office of Radiation and Indoor Air.

[FR Doc. 2010-22335 Filed 9-7-10; 8:45 am]

BILLING CODE 6560-50-P